DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Data Collection and Verification for the Marine Projected Areas Inventory.

OMB Control Number: 0648-0449.

Form Number(s): None.

Type of Request: Regular (request for revision and extension of a currently approved information collection).

Number of Respondents: 67.

Average Hours per Response: 30 minutes.

Burden Hours: 29.

Needs and Uses: This request is for a revision and extension of an approved data collection effort to provide ocean managers, users and other interested parties with accurate, objective and useful information about the location, purpose, management and human uses of marine protected areas in the coastal and marine waters of the United States. To this end, NOAA's National Marine Protected Areas Center (MPA Center), part of the Office of National Marine Sanctuaries (ONMS), proposes to continue and augment an ongoing effort to inventory all U.S. MPAs.

The MPA Center was established under Executive Order 13158, which directs NOAA and the Department of the Interior to work collaboratively with state, federal, territorial and tribal partners to enhance ocean conservation and management throughout the nation's system of MPAs. The Marine Protected Areas Inventory—a publicly available, online, spatial database that provides detailed and unique information on MPAs nationwide—is fundamental to this goal. Required by Executive Order 13158, the Inventory provides access to data and summary products on over 1,600 MPA sites across different management programs and all levels of government. The MPA Inventory is accessible via the MPA Center's Web site, marineprotectedareas.noaa.gov.

The MPA Inventory data collection continues the periodic and voluntary solicitation of site-specific descriptive data from all MPAs in the U.S. Typically, an individual MPA site would complete an online site data form once, and then update it if necessary to reflect changes in boundaries, regulations, management approaches, etc. The MPA Inventory is frequently used by ocean managers, users, scientists and others to better understand place-based management of U.S. waters.

In addition to continuing to manage and share descriptive information on U.S. MPAs, the MPA Center proposes to contact State and Federal MPA managers to solicit and facilitate their participation in a voluntary survey about conditions and trends in recreational uses of their sites. Data addressing the nature, trends, drivers and implications of recreational uses will be collected from U.S. MPA managers electronically over a period of 6 weeks using an online survey instrument. Individual managers' responses will remain confidential and the results aggregated to illustrate meaningful general trends rather data specific to a single MPA. Important patterns and lessons learned from this data collection will be shared directly with MPA managers around the country to assist in their management of some of the nation's most treasured ocean and coastal areas.

Affected Public: State, local and tribal governments.

Frequency: On occasion and biannually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 30, 2015.
Sarah Brabson,
NOAA PRA Clearance Officer.

[FR Doc. 2015-07584 Filed 4-2-15; 8:45 am]

BILLING CODE 3510-NK-P